DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before June 26, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov. Each mode of transportation for which a particular special permit is requested is indicated by a number in the “Nature of Application” portion of the table below as follows: 1—Motor vehicle, 2—Rail freight, 3—Cargo vessel, 4—Cargo aircraft only, 5—Passenger-carrying aircraft.

This notice of receipt of applications for special permit is published in accordance with part 107 of the Federal hazardous materials transportation law (49 U.S.C. 5117(b); 49 CFR 1.53(b)).

Issued in Washington, DC, on June 4, 2018.
Donald P. Burger,
Chief, General Approvals and Permits Branch.

Special Permits Data
Application No. | Applicant | Regulation(s) affected | Nature of the special permits thereof
11447-M | SAES PURE GAS, INC |  | To modify the special permit to authorize an increase in the amount of nickel content from 5,200 pounds to 12,500 pounds. (modes 1, 3, 4)
12412-M | CLEAR VIEW ENTERPRISES LLC |  | To modify the special permit to authorize transporting hazmat in manifolded IBCs on a flatbed trailer. (mode 1)
14154-M | CARLETON TECHNOLOGIES, INC |  | To modify the special permit to authorize additional Division 2.2 gases. (modes 1, 2, 3, 4, 5)
14603-M | YIWU HAUNQIU CANS MANUFACTURING CO., LTD. (FORMER GRANTEE: YI WU HAUN QIU CAN MANFACTURE) | 173.304(d) | To modify the special permit to update technical drawings and to authorize higher distortion and minimum burst pressures. (modes 1, 2, 3, 4)
15507-M | YIWU JINYU MACHINERY FACTORY | 173.304(d) | To modify the special permit to authorize a new can design and increase the burst and equilibrium pressures. (modes 1, 2, 3, 4)
20323-M | JOHNSON CONTROLS ADVANCED POWER SOLUTIONS, LLC |  | To modify the special permit to authorize additional packaging. (mode 4)
20546-M | DEPARTMENT OF DEFENSE (MILITARY SURFACE DEPLOYMENT & DISTRIBUTION COMMAND) | 173.159(d) | To modify the special permit to authorize the transportation in commerce of batteries in boxes as strong outer packagings. (modes 1, 2, 3, 4)
20597-M | DEPARTMENT OF DEFENSE (MILITARY SURFACE DEPLOYMENT & DISTRIBUTION COMMAND) | 173.220 | To modify the special permit initially granted on an emergency basis to permanent and to authorize an increase in the amount of fuel to be transported in the remotely piloted vehicles which are fueled while in transportation. (modes 1, 2, 3, 4)

[FR Doc. 2018-12455 Filed 6-8-18; 8:45 am]

BILLING CODE 4909-60-P